DEPARTMENT OF STATE

[Public Notice: 11456]

Renewal of International Security Advisory Board Charter

SUMMARY: The Department of State announces the renewal of the Charter for the International Security Advisory Board (ISAB). The purpose of the Secretary's International Security Advisory Board (ISAB) is to provide the Department with a continuing source of independent insight, advice, and innovation on all aspects of arms control, disarmament, nonproliferation, outer space, critical infrastructure, cybersecurity, the national security aspects of emerging technologies, and international security, as well as related aspects of public diplomacy. The ISAB will remain in existence for two years after the filing date of the Charter unless terminated or renewed.

FOR FURTHER INFORMATION CONTACT: Neil Couch, Executive Director of the International Security Advisory Board, Department of State, Washington, DC 20520, telephone: (202) 647-0902.

Authority: 5 U.S.C. Appendix and 41 CFR 102-3.65.

Johnny Neil Couch,
Executive Director, International Security Advisory Board, U.S. Department of State.

[FR Doc. 2021-14189 Filed 7-1-21; 8:45 am]

BILLING CODE 4710-35-P